DEPARTMENT OF THE INTERIOR

National Park Service

Notice of Intent To Prepare an Environmental Impact Statement for the Modification/Removal of the Canal Diversion Dam in Cuyahoga Valley National Park, OH

AGENCY: National Park Service, Department of the Interior.

ACTION: Notice of Intent to Prepare an Environmental Impact Statement for the Modification/Removal of the Canal Diversion Dam in Cuyahoga Valley National Park, Ohio.

SUMMARY: Pursuant to Section 102(2)(C) of the National Environmental Policy Act of 1969 (42 U.S.C. 4332(2)(C)), the National Park Service (NPS) is announcing its intent to prepare an Environmental Impact Statement (EIS) for the modification/removal of the Canal Diversion Dam in Cuyahoga Valley National Park, Ohio. The Canal Diversion Dam on the Cuyahoga River is owned by the Ohio Department of Natural Resources (ODNR). The NPS will be the lead Federal Agency for preparation of the EIS, and ODNR and the Ohio Environmental Protection Agency (OEPA) will be cooperating agencies. The Canal Diversion Dam (alternatively known as the Brecksville Dam, Station Road Dam, SR82 Dam, or SUM-3253-1) on the Cuyahoga River is 183 feet long, nearly 8 feet high, and feeds water into the Ohio and Erie Canal that then drains north through Cuyahoga Valley National Park and into Cleveland Metropark's Ohio and Erie Canal Reservation. The watered portion of the canal and its historic features are a National Historic Landmark.

The OEPA has concluded that the dam negatively impacts water quality and interrupts aquatic communities by restricting fish passage. The NPS has concluded that maintaining water in the canal is also critical because of the important natural, cultural, and educational values associated with the watered portion of the canal. Alternatives that seek to improve river water quality and habitat values while maintaining a watered canal segment are being evaluated.

DATES: To determine the scope of issues to be addressed in the EIS and to identify significant issues related to the modification/removal of the Canal Diversion Dam, the NPS and cooperating agencies will conduct a public scoping meeting in the area of Cuyahoga Valley National Park. Representatives of the NPS and the cooperating agencies will be available to discuss issues, resource concerns, and the planning process at the public meeting. When the public scoping meeting has been scheduled, its location, date, and time will be published in local media and on the NPS Web site listed below.

ADDRESSES: Information will be available for public review and comment, either in person or by written request, at the headquarters for Cuyahoga Valley National Park located at 15610 Vaughn Road, Brecksville, Ohio 44141; telephone 216-524-1497. Information will be available at the NPS Planning, Environment and Public Comment (PEPC) Web site at http://parkplanning.nps.gov/cuva. Information will also be available from the OEPA, 2110 East Aurora Road, Twinsburg, Ohio 44087.

To facilitate sound analysis of environmental impacts, the NPS and cooperating agencies are gathering information necessary for the preparation of the EIS. Suggestions on environmental issues to be analyzed and additional alternatives to consider are being sought from other Agencies, Tribes, organizations, and the public. Comments and participation in this scoping process are invited and encouraged. If you wish to comment on the scoping materials or on any other issues associated with the EIS, you may submit your comments by any one of several methods. You may submit your comments online through the PEPC Web site: Click on the link titled “Modification/removal of Canal Diversion Dam on the Cuyahoga River at Station Road/SR82.” You may also mail comments to the OEPA at the address given above. To aid in the scoping process, comments should be received within 45 days of the beginning of the public comment period.

Interested Agencies and organizations are also invited to arrange meetings to provide input directly. Such meetings can be arranged by contacting the OEPA at the address and telephone above.

Before including your address, telephone number, e-mail address, or other personal identifying information in your comments, you should be aware that your entire comment (including your personal identifying information) may be made publicly available at any time. While you can ask us in your comments to withhold your personal identifying information from public review, we cannot guarantee that we will be able to do so.

FOR FURTHER INFORMATION CONTACT: For information concerning the scope of the EIS and to arrange Agency meetings, requests should be directed to: William J. Zawiski, Environmental Scientist, Ohio Environmental Protection Agency, 2110 East Aurora Road, Twinsburg, Ohio 44087; e-mail: bill.zawiski@epa.state.oh.us; telephone 330-963-1134. Information can also be obtained from the Project Contact, Meg Plona, Biologist, Cuyahoga Valley National Park, telephone 330-342-0764, extension 2.

SUPPLEMENTARY INFORMATION: The Cuyahoga River upstream of the dam does not meet aquatic community goals set forth in Ohio's Water Quality Standards. The Lower Cuyahoga River Total Maximum Daily Load (TMDL) report, as well as previous OEPA water quality surveys, has indicated that a cause of nonattainment of the standards is the dam. The TMDL report recommends that the Canal Diversion Dam be modified or removed to restore water quality in the Cuyahoga River upstream of the structure. Public and stakeholder scoping regarding modification or removal of the dam was initiated by the OEPA in August 2002, and included public meetings August and November 2005. It was unclear whether the proposed action would involve NPS lands or adversely affect NPS resources, or whether such effects could be appropriately analyzed in another NEPA document until more information regarding possible alternatives and impacts became available. The NPS managers now believe that an EIS is most appropriate given the scope and complexity of the proposed action, and the likelihood that alternatives may impact park resources, involve access to NPS lands, or utilize NPS funds. All information generated during the previous scoping process will be retained for use in this EIS process. Anyone who contributed comments to the OEPA regarding the dam removal need not resend their comments.

A preliminary set of alternatives for modification or removal of the Canal Diversion Dam has been developed. These include: (1) No Action—the dam would remain on the river continuing to adversely impact water quality of the Cuyahoga River and provide water to the Ohio and Erie Canal; (2) Total Removal—the dam would be removed, restoring a free-flowing river and water would be provided to the Ohio and Erie Canal to maintain its current watered state; and (3) Partial Removal/Modification—the dam would be altered to allow for restoration of water quality as well as eliminating existing recreational boating hazard. Water would be provided to the Ohio and Erie Canal to maintain its current watered state. A variety of background documents have been completed and are available for review in the NPS PEPC Web site listed above.

Dated: December 5, 2008.
Ernest Quintana,
Regional Director, Midwest Region.

Editorial Note: This document was received in the Office of the Federal Register on July 21, 2009.

[FR Doc. E9-17705 Filed 7-23-09; 8:45 am]

BILLING CODE 4310-MA-P